DEPARTMENT OF TRANSPORTATION

Federal Railroad Administration

[Docket No. FRA-2013-0002-N-18]

Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for emergency processing under the Paperwork Reduction Act of 1995. FRA requests that OMB authorize the collection of information identified below on or before September 1, 2013, for a period of 180 days.

FOR FURTHER INFORMATION CONTACT: A copy of this individual ICR, with applicable supporting documentation, may be obtained by calling FRA's Clearance Officers: Robert Brogan (tel. (202) 493-6292) or Kimberly Toone (tel. (202) 493-6132); these numbers are not toll-free), or by contacting Mr. Brogan via facsimile at (202) 493-6216 or Ms. Toone via facsimile at (202) 493-6497, or via email by contacting Mr. Brogan at Robert.Broga@dot.gov; or by contacting Ms. Toone at Kim.Toone@dot.gov. Comments and questions about the ICR identified below should be directed to OMB's Office of Information and Regulatory Affairs, Attn: FRA OMB Desk Officer.

Title: FRA Emergency Order No. 28, Notice No. 1

Reporting Burden
Emergency order item No. | Respondent universe | Total annual responses | Average time per response | Total annual burden hours
(1) RR Plans identifying specific locations and circumstances of trains carrying hazardous materials | 655 railroads | 491 plans | 40 hours | 19,640 hours
—Revised Plans | 655 railroads | 50 revised plans | 10 hours | 500
—Notifications to FRA by RR of Plan Development Prior to Its Operation Pursuant to Plan | 655 railroads | 50 notifications | 30 minutes | 25
(2)(a)—RR Development of Process for Securing Unattended Trains or Vehicles | 655 railroads | 491 processes | 60 minutes | 491
(b)—RR Employees communication to dispatchers of information regarding securement of train | 100,000 Employees | 2,600 exchanges/communications | 5 minutes | 217
(c)—Dispatcher's Record of Information Exchanged or Communicated | 655 railroads | 2,600 records | 2 minutes | 87
(d)—Train Dispatcher or Other Qualified Employee Verification and Confirmation of Train Securement Meeting RR's Requirements | 655 railroads | 2,600 verifications and confirmations | 2 minutes | 87
(3) RR Review and Revision of Existing Procedures and Processed Related to the number of Hand Brakes Set on All Unattended Trains | 655 railroads | 491 revised procedures and processes | 6 hours | 2,946
(4) RR Revision of Operating Rules and Practices to Require Job Briefing of Train Securement | 655 railroads | 491 revised operating rules and practices | 2 hours | 982
—Daily Job Briefings | 100,000 RR Employees | 23,400,000 briefings | 5 minutes | 1,950,000
(5) Development of RR Procedure to Ensure a Qualified Employee Inspects All Equipment Visited by Emergency Responder for Proper Securement Before Train or Vehicle is Left Unattended | 655 railroads | 491 Procedures | 60 minutes | 491
—Inspections of Equipment | 655 railroads | 1,000 inspections | 4 hours | 4,000
(6) RR Employees Copy of FRA EO 28 | 100,000 RR Employees | 100,000 copies | 1 minute | 1,667

Form Number(s): N/A

Respondent Universe: 655 Railroads; 100,000 Railroad Employees

Frequency of Submission: One-time; on occasion

Total Responses: 23,511,355

Estimated Total Annual Burden: 1,981,133 hours

Status: Emergency Review

Description: FRA has determined that public safety compelled the issuance of Emergency Order No. 28, which requires railroads operating on the general system of transportation to implement additional processes and procedures to ensure that unattended trains and vehicles on mainline track or sidings are properly secured against unintended movement. Emergency Order No. 28 was published in the Federal Register on August 7, 2013, in response to the catastrophic accident that occurred in Lac-Mégantic, Quebec, Canada, on July 6, 2013. See 78 FR 48218. Emergency Order No. 28 is intended to address some of the human factors failures that may cause unattended equipment to be improperly secured in order to protect the general public and communities near the general system of rail transportation and railroad equipment that is used on it against derailment situations similar to that which occurred at Lac-Mégantic.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2013-21210 Filed 8-29-13; 8:45 am]

BILLING CODE 4910-06-P